DEPARTMENT OF VETERANS AFFAIRS

Enhanced-Use Lease Development of Property at the Department of Veterans Affairs Medical Center, Salt Lake City, UT

AGENCY: Department of Veterans Affairs.

ACTION: Notice of Intent to Enter into an Enhanced-Use Lease.

SUMMARY: The Secretary of the Department of Veterans Affairs (VA) intends to enter into an enhanced-use lease of approximately 6.7 acres at the George E. Wahlen VA Medical Center in Salt Lake City, Utah. The selected lessee would develop, finance, construct, manage, maintain and operate a commercial office building to house medical-related research and other permitted activities and an adjacent, smaller restaurant/retail building. The lessee would also be required to provide VA with monetary and in-kind consideration consisting of certain renovation and improvement work on the VAMC campus.

FOR FURTHER INFORMATION CONTACT: Raymond N. Palmer, Office of Asset Enterprise Management (004B), Department of Veterans Affairs, 810 Vermont Avenue, NW., Washington, DC 20420, (202) 273-8862.

SUPPLEMENTARY INFORMATION: 38 U.S.C. 8161 et seq. specifically provides that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: March 3, 2006.
R. James Nicholson,
Secretary of Veterans Affairs.

[FR Doc. E6-3466 Filed 3-9-06; 8:45 am]

BILLING CODE 8320-01-P